DEPARTMENT OF COMMERCE

National Oceanic and Atmospheric Administration

[RTID 0648-XE476]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its American Samoa Archipelago Fishery Ecosystem Plan (FEP) Advisory Panel (AP), Non-Commercial Fisheries Advisory Committee (NCFAC), Mariana Archipelago FEP Commonwealth of the Northern Mariana Islands (CNMI) AP, Fishing Industry Advisory Committee (FIAC), Hawaii Archipelago FEP AP, and the Mariana Archipelago FEP Guam AP to discuss and make recommendations on fishery management issues in the Western Pacific Region.

DATES: The meetings will be held between December 3 and December 7, 2024. For specific times and agendas, see SUPPLEMENTARY INFORMATION.

ADDRESSES: The meetings will be held at different locations. See SUPPLEMENTARY INFORMATION for specific locations. Instructions for connecting to the web conference and providing oral public comments will be posted on the Council website at www.wpcouncil.org. For assistance with the web conference connection, contact the Council office at (808) 522-8220.

FOR FURTHER INFORMATION CONTACT: Contact Kitty M. Simonds, Executive Director, Western Pacific Fishery Management Council; phone: (808) 522-8220.

SUPPLEMENTARY INFORMATION:

Meeting Locations

The Council will hold its American Samoa Archipelago FEP AP, NCFAC, Mariana Archipelago FEP CNMI AP, FIAC, Hawaii Archipelago FEP AP, and the Mariana Archipelago FEP Guam AP meetings in a hybrid format with in-person and remote participation (Webex) options available for the members and the public. In-person attendance for the American Samoa Archipelago FEP AP members and public will be hosted at the Tedi of Samoa Suite 208B, P8C6+V2F, Fagotogo Village, AS 96799. In-person attendance for the NCFAC and public will be hosted at the Council office, 1164 Bishop Street, Suite 1400, Honolulu, HI 96813. In-person attendance for Mariana Archipelago FEP CNMI AP members and public will be hosted at BRI Building Suite 205, Kopa Di Oru St., Garapan, Saipan 96950. In person attendance for FIAC and Hawaii Archipelago FEP AP members and public will be hosted at the Council office, 1164 Bishop Street, Suite 1400, Honolulu, HI 96813. In-person attendance for Mariana Archipelago FEP Guam AP members and public will be hosted at Cliff Pointe, 304 W O'Brien Drive, Hagatña, GU 96910.

The American Samoa FEP AP will meet on Tuesday, December 3, from 5 p.m. to 7 p.m. (Samoa Standard Time); the NCFAC will meet on Wednesday, December 4, 2024 from 1:30 p.m. to 4:30 p.m. (Hawaii Standard Time[HST]); the Mariana Archipelago FEP CNMI AP will meet on Thursday, December 5, from 6 p.m. to 8 p.m. (Chamorro Standard Time [ChST]); the FIAC will meet on Thursday, December 5, from 2 p.m. to 5 p.m. (HST); the Hawaii Archipelago FEP AP will meet on Friday, December 6, from 9 a.m. to 3 p.m. (HST); and the Mariana Archipelago Guam AP will meet on Saturday, December 7, from 11 a.m. to 1 p.m. (ChST).

Public Comment periods will be provided in the agendas. The order in which agenda items are addressed may change. The meetings will run as late as necessary to complete scheduled business.

Schedule and Agenda for the American Samoa Archipelago FEP AP Meeting

Tuesday, December 3, 2024, 5 p.m.-7 p.m. (Samoa Standard Time)

1. Welcome and Introductions

2. Review of the Last Advisory Panel (AP) Recommendation and Meetings

3. Feedback from the Fleet

A. Fourth Quarter Fisher Observations

B. Fisheries Issues

4. Council Fisheries Issues

A. Options for Hawaii and American Samoa Longline Fisheries Crew Training Requirement

B. Longline Electronic Monitoring Implementation Feasibility

5. Updates from NOAA Fisheries' Social-Ecological and Economic Systems (SEES) Program

6. Review of 2023-2026 AP Action Plan

7. Updates on the Council Inflation Reduction Act (IRA) Projects

8. Other Business

9. Public Comment

10. Discussion and Recommendations

Schedule and Agenda for the Non-Commercial Fisheries Advisory Committee

Wednesday, December 4, 2024, 1:30 p.m.-4:30 p.m.

1. Welcome and Introductions

2. Review of the Last NCFAC Meeting

3. Feedback from the Fleet

4. National Initiatives

A. NOAA Re-envisioning Recreational Fishing Data Collection

B. Marine Recreational Information Program Pacific Islands Regional Implementation Plan

5. Updates on Regional Initiatives

A. Territorial Creel Survey and Annual Report Modules

B. Hawaii

i. Hawaii Marine Recreational Fishing Survey

ii. Main Hawaiian Islands (MHI) Uku Project

6. Updates on Council IRA Projects

7. Other Business

8. Public Comment

9. Discussion and Recommendations

Schedule and Agenda for the Mariana Archipelago FEP CNMI AP Meeting

Thursday, December 5, 2024, 6 p.m.-8 p.m. (Chamorro Standard Time)

1. Welcome and Introductions

2. Review of the Last AP Recommendation and Meetings

3. Feedback from the Fleet

A. Fourth Quarter Fisher Observations

B. Fisheries Issues

4. Council Fisheries Issues

A. Status of Fisheries Development

5. Updates from NOAA Fisheries' SEES Program

6. Review of 2023-2026 AP Action Plan

7. Updates on the Council IRA Projects

8. Other Business

9. Public Comment

10. Discussion and Recommendations

Schedule and Agenda for the FIAC Meeting

Thursday, December 5, 2024, 2 p.m.-5 p.m. (Hawaii Standard Time)

1. Welcome and Introductions

2. Status Review on Previous FIAC recommendations

3. Roundtable update on Fishing/Market Issues/Impacts

4. U.S. Catch Limits for North Pacific Striped Marlin

5. Options for Hawaii and American Samoa Longline Fisheries Crew Training Requirement

6. Development of an Electronic Monitoring Program for Western Pacific Fisheries

7. MHI Bottomfish Market Snapshot

8. Updates on US and Pacific Island Trade Issues

9. Western and Central Pacific Fisheries Commission Updates

10. Other Business

11. Public Comment

12. Discussion and Recommendations

Schedule and Agenda for the Hawaii Archipelago FEP AP Meeting

Friday, December 6, 2024, 9 a.m.-3 p.m. (Hawaii Standard Time)

1. Welcome and Introductions

2. Review of the Last AP Recommendation and Meetings

3. Feedback from the Fleet

A. Fourth Quarter Fisher Observations

B. Fisheries Issues

4. Council Fisheries Issues

A. Options for Hawaii and American Samoa Longline Fisheries Crew Training Requirement

B. Development of an Electronic Monitoring Program for Western Pacific Fisheries

5. Updates from NOAA Fisheries' SEES Program

6. MHI Bottomfish Independent Survey in Hawaii Strategic Shift

7. Review of 2023-2026 AP Action Plan

8. Updates on the Council IRA Projects

9. Other Business

10. Public Comment

11. Discussion and Recommendations

Schedule and Agenda for the Mariana Archipelago FEP Guam AP Meeting

Saturday, December 7, 2024, 11 a.m.-1 p.m. (Chamorro Standard Time)

1. Welcome and Introductions

2. Review of the Last AP Recommendation and Meetings

3. Feedback from the Fleet

A. Fourth Quarter Fisher Observations

B. Fisheries Issues

4. Council Fisheries Issues

A. Modifying the Guam Bottomfish Rebuilding Plan

5. Guam Military Working Group Update

6. Updates from NOAA Fisheries' SEES Program

7. Review of 2023-2026 AP Action Plan

8. Updates on the Council IRA Projects

9. Other Business

10. Public Comment

11. Discussion and Recommendations

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: November 13, 2024.
Rey Israel Marquez,
Acting Deputy Director, Office of Sustainable Fisheries, National Marine Fisheries Service.

[FR Doc. 2024-26844 Filed 11-15-24; 8:45 am]

BILLING CODE 3510-22-P